DEPARTMENT OF COMMERCE

International Trade Administration

[A-570-863]

Honey from the People's Republic of China: Extension of Time Limit for Final Results of Antidumping Duty New Shipper Review

AGENCY: Import Administration, International Trade Administration, Department of Commerce.

SUMMARY: The U.S. Department of Commerce (the Department) is extending the time limit of the final results of the new shipper review of the antidumping duty order on honey from the People's Republic of China (PRC) until no later than October 25, 2004. The period of review (POR) is December 1, 2002, through May 31, 2003. This extension is made pursuant to section 751(a)(2)(B)(iv) of the Tariff Act of 1930, as amended (the Act).

EFFECTIVE DATE: August 17, 2004.

FOR FURTHER INFORMATION CONTACT: Angelica Mendoza or Brandon Farlander at (202) 482-3019 or (202) 482-0182, respectively; Antidumping and Countervailing Duty Operations, Import Administration, International Trade Administration, U.S. Department of Commerce, 14th Street and Constitution Avenue, N.W., Washington, D.C. 20230.

SUPPLEMENTARY INFORMATION:

Background

On June 30, 2003, the Department received timely filed requests from Cheng Du Wai Yuan Bee Products Co., Ltd. (Cheng Du) and Jinfu Trading Co., Ltd. (Jinfu) for new shipper reviews under the antidumping duty order on honey from the PRC, in accordance with section 751(a)(2)(B) of the Act and section 351.214(c) of the Department's regulations. Cheng Du identified itself as the producer and exporter of the merchandise subject to review. Jinfu identified itself as the exporter of subject merchandise produced by its supplier, Cixi City Yikang Bee Industry Co., Ltd. (Cixi Yikang).

Because the Department determined that Cheng Du's and Jinfu's requests met the requirements of section 351.214 of its regulations at that time, on August 11, 2003, the Department published its initiation of this new shipper review for the period December 1, 2002, through May 31, 2003 (68 FR 47537). Accordingly, the Department is now conducting this new shipper review in accordance with section 751(a)(2)(B) of the Act and section 351.214 of its regulations.

On January 14, 2004, the Department extended the preliminary results of this new shipper review by 120 days until May 26, 2004 (69 FR 2112). On June 1, 2004, the Department published the preliminary results and partial rescission of these reviews. See Preliminary Results and Partial Rescission of Antidumping Duty New Shipper Review: Honey from the People's Republic of China, 69 FR 314348.

Extension of Time Limit for Final Results

Pursuant to section 751(a)(2)(B)(iv) of the Act, the Department may extend the deadline for completion of the final results of a new shipper review by 60 days if it determines that the case is extraordinarily complicated. The Department has determined that this case is extraordinarily complicated because of the issues pertaining to the relationship between Jinfu and its U.S. importer, the bona fides of Jinfu's U.S. sale and operations, and allegations that Jinfu placed new factual information on the record in filing its case brief. The Department must address these issues in the final results. Accordingly, the final results of this new shipper review cannot be completed within the statutory time limit of 90 days. Therefore, in accordance with section 751(a)(2)(B)(iv) of the Act and section 351.214(i)(2) of the regulations, the Department is fully extending the time limit for the completion of final results by an additional 60 days. The final results will now be due no later than October 25, 2004.

This notice is published in accordance with section 751(1)(3)(A) of the Act and section 19 CFR 351.213(h)(2) of the Department's regulations.

Dated: August 11, 2004.
Jeffrey A. May,
Deputy Assistant Secretary for Import Administration.

[FR Doc. 04-18812 Filed 8-16-04; 8:45 am]

BILLING CODE 3510-DS-S